DEPARTMENT OF THE INTERIOR

Bureau of Indian Affairs

[190A2100DD/AAKC001030/A0A51010.999900]

Land Acquisitions; the Forest County Potawatomi Community, Wisconsin

AGENCY: Bureau of Indian Affairs, Interior.

ACTION: Notice.

SUMMARY: The Assistant Secretary—Indian Affairs has made a final determination to acquire 92.75 acres, more or less, into trust for the Forest County Potawatomi Community, Wisconsin on July 12, 2019.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On July 12, 2019, the Assistant Secretary—Indian Affairs issued a decision to accept land in trust for the Forest County Potawatomi Community, Wisconsin under the authority of Section 5 of the Indian Reorganization Act of 1934 (48 Stat. 984).

Forest County Potawatomi Community, Wisconsin, Forest County, Wisconsin, Legal Description Containing 92.75 Acres, More or Less

Parcel #1

The North one-half of the Northeast Quarter (N ½ NE ¼) of Section Thirteen (13), Township Thirty-six (36) North, Range Twelve (12) East, in Forest County, Wisconsin.

Together with an easement for the benefit of said parcel created by instrument recorded in Volume 165 Records page 844, for ingress and egress.

Parcel #2

The Southeast Quarter of Southeast Quarter (SE ¼ SE ¼), Section Twelve (12), Township Thirty-six (36) North, Range Twelve (12) East, in Forest County, Wisconsin.

Parcel Numbers: 012-00204-00, 012-00203-00, and 012-00202-00.

Dated: July 12, 2019.
Tara Sweeney,
Assistant Secretary—Indian Affairs.

[FR Doc. 2019-17942 Filed 8-19-19; 8:45 am]

BILLING CODE 4337-15-P